DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Applications and Reporting Requirements for the Incidental Take of Marine Mammals by Specified Activities (other than Commercial Fishing Operations) under the Marine Mammal Protection Act.

OMB Control Number: 0648-0151.

Form Number(s): None.

Type of Request: Regular (extension of a currently approved information collection).

Number of Respondents: 93.

Average Hours per Response: 255 hours for an Incidental Harassment Authorization (IHA) application; 11 hours for an IHA interim report (if applicable); 115 hours for an IHA draft annual report; 14 hours for an IHA final annual report (if applicable); 1,100 hours for the initial preparation of an application for new regulations; 70 hours for an annual Letter of Authorization (LOA) application; 220 hours for an LOA draft annual report; 65 hours for a LOA final annual report (if applicable); 625 hours for a LOA draft comprehensive report; and 300 hours for an LOA final comprehensive report. Response times will vary for the public based upon the complexity of the requested action.

Burden Hours: 15,291.

Needs and Uses: Applications and Reporting Requirements for the Incidental Take of Marine Mammals by Specified Activities (other than Commercial Fishing Operations) under the Marine Mammal Protection Act.

Affected Public: Federal government; state, local or tribal government; business or other for-profit organizations.

Frequency: Annually and interim (90 days).

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: February 13, 2017.
Sarah Brabson,
NOAA PRA Clearance Officer.

[FR Doc. 2017-03160 Filed 2-16-17; 8:45 am]

BILLING CODE 3510-22-P